DEPARTMENT OF TRANSPORTATION

Federal Highway Administration

Notice of Final Federal Agency Actions on Proposed Highway in California

AGENCY: Federal Highway Administration (FHWA), Department of Transportation (DOT)

ACTION: Notice of limitation on claims for judicial review of actions by the California Department of Transportation (Caltrans), pursuant to 23 U.S.C. 327.

SUMMARY: The FHWA, on behalf of Caltrans, is issuing this notice to announce actions taken by Caltrans, that are final. The actions relate to a proposed highway project, on State Route 260 (SR-260) between postmiles R0.78 and R1.90 and Interstate 880 (I-880) between postmiles 30.47 and 31.61 in the cities of Oakland and Alameda in the County of Alameda, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before August 12, 2022. If the Federal law that authorizes judicial review of a claim provides a time period of less than 150 days for filing such claim, then that shorter time period still applies.

FOR FURTHER INFORMATION CONTACT: For Caltrans: Lindsay Vivian, Office Chief, California Department of Transportation. 111 Grand Avenue, MS-8B, Oakland, CA 94612. Office hours: Monday through Friday 8:00 a.m.-4:30 p.m. Contact information: lindsay.vivian@dot.ca.gov and 510-506-4310. For FHWA, contact Shawn Oliver at (916) 498-5040 or email shawn.oliver@dot.gov.

SUPPLEMENTARY INFORMATION: Effective July 1, 2007, FHWA assigned, and Caltrans assumed, environmental responsibilities for this project pursuant to 23 U.S.C. 327. Notice is hereby given that the Caltrans, have taken final agency actions subject to 23 U.S.C. 139(l)(1) by issuing licenses, permits, and approvals for the following highway project in the State of California: Caltrans, in partnership with the Alameda County Transportation Commission (Alameda CTC), proposes the Oakland Alameda Access Project to improve motorist, pedestrian, and bicyclist safety, reduce conflicts between regional and local traffic, and enhance bicycle and pedestrian accessibility and connectivity within the project area. The project will remove and modify existing freeway ramps, modify the connection from the Posey Tube to I-880, construct Class IV two-way cycle tracks in Oakland, implement various “complete streets” improvements, implement bicycle and pedestrian improvements at the approaches to the Posey and Webster Tubes, and open the Webster Tube's westside walkway to bicyclists and pedestrians. The actions by the Federal agencies, and the laws under which such actions were taken, are described in the Final Environmental Document (FED) and Finding of No Significant Impact (FONSI) for the project, approved on August 20, 2021 and in other documents in the Caltrans project records. The FED, FONSI, and other project records are available by contacting Caltrans at the information provided above. The Caltrans FED and FONSI can be viewed and downloaded from the project website at https://dot.ca.gov/caltrans-near-me/district-4/d4-projects/d4-oaap.

This notice applies to all Federal agency decisions as of the issuance date of this notice and all laws under which such actions were taken, including but not limited to:

1. General: National Environmental Policy Act (NEPA) [42 U.S.C. 4321-4351]; Federal-Aid Highway Act [23 U.S.C. 109 and 23 U.S.C. 128].

2. Air: Clean Air Act [42 U.S.C. 7401-7671(q)].

3. Wildlife: Endangered Species Act [16 U.S.C. 1531-1544 and Section 1536]; Fish and Wildlife Coordination Act [16 U.S.C. 661-667(d)]; Migratory Bird Treaty Act 16 U.S.C. 703-712].

4. Historic and Cultural Resources: Section 106 of the National Historic Preservation Act of 1966, as amended [16 U.S.C. 470(f) et seq.]; Historic Sites Act of 1935 [16 U.S.C. 461-467].

5. Wetlands and Water Resources: Clean Water Act (Section 404 and Section 401) [33 U.S.C. 1251-1377]; safe Drinking water Act (SDWA) [42 U.S.C. 300(f)-300(j)(6)].

6. Social and Economic: Civil Rights Act of 1964 [42 U.S.C. 2000(d)-2000(d)(1)].

7. Health: Resource Conservation and Recovery Act [42 U.S.C. 6901 et seq.]; Comprehensive Environmental Response, Compensation, and Liability Act [42 U.S.C. 9601 et seq.]; Atomic Energy Act [42 U.S.C. 2011-2259]; Toxic Substance Control Act [15 U.S.C. 2601-2629]; Community Environmental Response Facilitation Act; Occupational Safety and Health Act [29 U.S.C. 651]; Federal Insecticide, Fungicide, and Rodenticide Act [7 U.S.C. 136].

8. Executive Orders: E.O. 12088 Federal Compliance with Pollution Control Standards; E.O. 12898 Federal Actions to Address Environmental Justice in Minority Populations and Low-Income Populations; E.O. 13112 Invasive Species; E.O. 11988 Floodplain Management.

(Catalog of Federal Domestic Assistance Program Number 20.205, Highway Planning and Construction. The regulations implementing Executive Order 12372 regarding intergovernmental consultation on Federal programs and activities apply to this program.)

Authority: 23 U.S.C. 139(l)(1).

Issued on: March 15, 2022.
Christina Leach,
Acting Director, Planning, Environment and Right of Way, Federal Highway Administration, California Division.

[FR Doc. 2022-06066 Filed 3-21-22; 8:45 am]

BILLING CODE 4910-RY-P